OVERSEAS PRIVATE INVESTMENT CORPORATION

Sunshine Act Public Hearing Cancellation Notice; February 24, 2011

OPIC's Sunshine Act notice of its Public Hearing in Conjunction with each Board meeting was published in the Federal Register (Volume 76, Number 22, Pages 5842 and 5843) on February 2, 2011. No requests were received to provide testimony or submit written statements for the record; therefore, OPIC's public hearing scheduled for 2 PM, February 24, 2011 in conjunction with OPIC's March 10, 2011 Board of Directors meeting has been cancelled.

Contact Person for Information: Information on the hearing cancellation may be obtained from Connie M. Downs at (202) 336-8438, or via e-mail at Connie.Downs@opic.gov.

Dated: February 17, 2011.
Connie M. Downs,
OPIC Corporate Secretary.

[FR Doc. 2011-4103 Filed 2-18-11; 11:15 am]

BILLING CODE 3210-01-P